DEPARTMENT OF ENERGY

Federal Energy Regulatory Commission

[Docket Nos. EC06-26-000, et al.]

Rainy River Energy Corporation—Wisconsin, et al.; Electric Rate and Corporate Filings

November 16, 2005.

The following filings have been made with the Commission. The filings are listed in ascending order within each docket classification.

1. Rainy River Energy Corporation—Wisconsin

[Docket No. EC06-26-000]

Take notice that on November 9, 2005, Rainy River Energy Corporation—Wisconsin (RR Wisconsin) submitted an application pursuant to section 203 of the Federal Power Act and part 33 of the Commission's regulations, requesting authorization for RRW Wisconsin to acquire membership units in American Transmission Company LLC and Class A non-voting stock in ATC Management Inc.

Comment Date: 5 p.m. Eastern Time on November 30, 2005.

2. Michigan Electric Transmission Co., LLC

[Docket No. EC06-27-000]

Take notice that on November 10, 2005, Michigan Electric Transmission Company, LLC (METC) submitted an application under section 203 of the Federal Power Act, 16 U.S.C. § 824b and part 33 of the Commission's regulations, 18 CFR part 33, for any required authorizations associated with its acquisition of certain electric facilities from Consumers Energy Company.

Comment Date: 5 p.m. Eastern Time on December 1, 2005.

3. Wildorado Wind, LP

[Docket No. EG06-5-000]

Take notice that on November 9, 2005, Wildorado Wind LP (Wildorado Wind), filed with the Commission an application for determination of exempt wholesale generator status pursuant to Part 365 of the Commission's regulations.

Wildorado Wind states that it is a 161 MW facility located in Oldham County, Texas with transmission line extending into Potter and Randall Counties and is owned and operated by Wildorado Wind, a wholly-owned subsidiary of Cielo Wind Power Corporation.

Comment Date: 5 p.m. Eastern Time on November 30, 2005.

4. Wind park Bear Creek, LLC

[Docket No. EG06-6-000]

Take notice that on November 9, 2005, Wind park Bear Creek, LLC, a Delaware limited liability company (WpBC), filed with the Federal Energy Regulatory Commission an application for determination of exempt wholesale generator status pursuant to part 365 of the Commission's regulations.

WpBC states that it intends to operate a 24-MW wind powered generation facility currently under construction in the Township of Bear Creek, Luzerne County, Pennsylvania (Facility). WpBC further states that when completed, the electric energy produced by the Facility will be sold into the wholesale power market of the PJM Region. The Facility is expected to begin commercial operation by December 31, 2005.

Comment Date: 5 p.m. Eastern Time on November 30, 2005.

5. Xcel Energy Services Inc.

[Docket No. ER05-1307-001]

Take notice that on November 3, 2005, Xcel Energy Services Inc. (XES) tendered for filing revised tariff sheets to the Xcel Energy Operating Companies Joint Open Access Transmission Tariff, First Revised Volume No. 1. XES states that these revised tariff sheets are being submitted on behalf of its operating companies Northern States Power Company—Minnesota and Northern States Power Company—Wisconsin and Southwestern Public Service Company.

Comment Date: 5 p.m. Eastern Time on November 25, 2005.

6. Michigan Electric Transmission Company, LLC

[Docket Nos. ER05-1472-001 and EC05-137-000]

Take notice that on November 4, 2005, Michigan Electric Transmission Company, LLC (METC) submitted revisions to its previously filed September 12, 2005, Interconnection Facilities Agreement between METC and the Wolverine Power Supply Cooperative, Inc. METC requests an effective date of November 11, 2005.

METC states that copies were served on Wolverine and the Midwest ISO.

Comment Date: 5 p.m. Eastern Time on November 25, 2005.

7. Michigan Electric Transmission Company, LLC

[Docket No. ER06-4-001]

Take notice that on November 4, 2005, Michigan Electric Transmission Company, LLC (METC) submitted revisions to its previously filed Interconnection Facilities Agreement (IFA) between METC and the Wolverines Power Supply Cooperative, Inc. (Wolverine). METC requests an effective date for the IFA of October 4, 2005. Copies of this filing were served on Wolverine and on the Midwest Independent Transmission System Operator, Inc.

Comment Date: 5 p.m. Eastern Time on November 22, 2005.

8. Arizona Public Service Company

[Docket No. ER06-134-000]

Take notice that on November 2, 2005, the Arizona Public Service Company (APS) submitted for filing a Notice of Cancellation of it FERC Electric Rate Schedule No. 247.

APS states that copies of this filing have been served upon PacifiCorp and the Arizona Corporation Commission.

Comment Date: 5 p.m. Eastern Time on November 23, 2005.

9. Kentucky Utilities Company; Louisville Gas and Electric Company; and LG&E Energy LLC

[Docket Nos. ES06-3-000 and EC06-23-000]

Take notice that on October 31, 2006, Louisville Gas and Electric Company (LG&E), Kentucky Utilities Company (KU), and LG&E Energy LLC (LG&E Energy) tendered for filing an application requesting authorization, pursuant to section 204 of the Federal Power Act, for KU to issue debt securities in an amount not to exceed $400 million outstanding at any one time, and authorization, pursuant to section 203 of the Federal Power Act, for the purchase or acquisition by LG&E and LG&E Energy of debt of its affiliate KU in an amount not to exceed $400 million outstanding at any one time.

Comment Date: 5 p.m. Eastern Time on November 22, 2005.

10. Louisville Gas and Electric Company; Kentucky Utilities Company; and LG&E Energy LLC

[Docket Nos. ES06-4-000 and EC06-22-000]

Take notice that on October 31, 2005, Louisville Gas and Electric Company (LG&E), Kentucky Utilities Company (KU and LG&E Energy LLC, (LG & E Energy), tendered for filing an application requesting authorizing pursuant to section 204 of the Federal Power Act, for LG&E to issue debt securities in an amount not to exceed $400 million outstanding at any one time, and authorization, pursuant to section 203 of the Federal Power Act, for the purchase or acquisition by KU and LE&E Energy of debt of its affiliate LG&E in an amount not to exceed $400 million outstanding at any one time.

Comment Date: 5 p.m. Eastern Time on November 22, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6471 Filed 11-23-05; 8:45 am]

BILLING CODE 6717-01-P